DEPARTMENT OF THE TREASURY

Submission for OMB Review; Comment Request

September 7, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before October 22, 2001 to be assured of consideration.

Internal Revenue Service (IRS)

OMB Number: 1545-0051.

Form Number: IRS Form 99-C.

Type of Review: Revision.

Title: Farmers' Cooperative Association.

Description: Form 990-C is used by farmers' cooperatives to report the tax imposed by Internal Revenue Code section 1381. The IRS uses the information on the form to determine whether the cooperative has correctly computed and reported its income tax liability.

Respondents: Business or other for-profit.

Estimated Number of Respondents/Recordkeepers: 5,600.

Estimated Burden Hours Per Respondent/Recordkeeper:

Recordkeeping | 75 hr., 34 min.
Learning about the law or the form | 24 hr., 55 min.
Preparing the form | 43 hr., 5 min.
Copying, assembling, and sending the form to the IRS | 4 hr., 33 min.

Frequency of Response: Annually.

Estimated Total Reporting/Recordkeeping Burden: 829,640 hours.

OMB Number: 1545-1274.

Form Number: IRS Form 8453-NR.

Type of Review: Extension.

Title: U.S. Nonresident Alien Income Tax Declaration for Electronic Filing.

Description: This form is used to secure taxpayer signatures and declarations in conjunction with the Electronic Filing program. This form, together with the electronic transmission comprises the taxpayer's income tax return.

Respondents: Individuals or households.

Estimated Number of Respondents/Recordkeepers: 5,000.

Estimated Burden Hours Per Respondent/Recordkeeper: 15 minutes.

Frequency of Response: Annually.

Estimated Total Reporting/Recordkeeping Burden: 1,250 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Mary A. Able,
Departmental Reports, Management Officer.

[FR Doc. 01-23501 Filed 9-19-01; 8:45 am]

BILLING CODE 4830-01-P